DEPARTMENT OF COMMERCE

Bureau of Economic Analysis

Proposed Information Collection; Comment Request; Direct Investments Survey: Direct Transactions of U.S. Reporter with Foreign Affiliate

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before 5 p.m. October 14, 2008.

ADDRESSES: Direct all written comments to Diane Hynek, Departmental Paperwork Clearance Officer, Department of Commerce, Room 6625, 14th and Constitution Avenue, NW., Washington, DC 20230, or via e-mail at dhynek@doc.gov.

FOR FURTHER INFORMATION CONTACT: Requests for additional information or copies of the information collection instrument and instructions should be directed to David Galler, Chief, Direct Investment Division (BE-50), Bureau of Economic Analysis, U.S. Department of Commerce, Washington, DC 20230; phone: (202) 606-9835; fax: (202) 606-5318; or via e-mail at David.Galler@bea.gov.

SUPPLEMENTARY INFORMATION:

I. Abstract

The Form BE-577, Direct Transactions of U.S. Reporter with Foreign Affiliate, obtains quarterly data on transactions and positions between U.S.-owned foreign business enterprises and their U.S. parent companies. The survey is a sample survey that covers all foreign affiliates above a size-exemption level. The sample data are used to derive universe estimates in nonbenchmark years from similar data reported in the BE-10, Benchmark Survey of U.S. Direct Investment Abroad, which is taken every five years. The data are used in the preparation of the U.S. international transactions accounts, the input-output accounts, and the national income and product accounts. The data are needed to measure the size and economic significance of direct investment abroad, measure changes in such investment, and assess its impact on the U.S. and foreign economies.

The data from the survey are primarily intended as general purpose statistics. They should be readily available to answer any number of research and policy questions related to U.S. direct investment abroad.

The form remains the same as in the past. No changes in the data collected or in exemption levels are proposed.

II. Method of Collection

Survey forms will be sent to U.S. parent companies each quarter; responses will be due within 30 days after the close of each fiscal quarter, except for the final quarter of the fiscal year, when reports should be filed within 45 days. A report must be filed for every foreign business enterprise whose voting stock (or the equivalent) is owned 10 percent or more by a U.S. business enterprise and for which any one of the following three items was greater than $40 million (positive or negative) at the end of, or for, the foreign business enterprise's fiscal year: (1) Total assets, (2) sales or gross operating revenues excluding sales taxes, or (3) net income after provision for foreign income taxes.

As an alternative to filing paper forms, BEA will offer an electronic filing option, its eFile system, for use in reporting on Form BE-577. For more information about eFile go to http://www.bea.gov/efile.

Potential respondents are the U.S-owned foreign business enterprises that were reported in the last benchmark survey of U.S. direct investment abroad, which covered the data year 2004, along with the foreign business enterprises that subsequently entered the direct investment universe. The data collected are sample data. Universe estimates are developed from the reported sample data.

III. Data

OMB Number: 0608-0004.

Form Number: BE-577.

Type of Review: Regular submission.

Affected Public: Business or other for-profit organizations.

Estimated Number of Respondents: 15,500 per quarter; 62,000 annually.

Estimated Time Per Response: 1 hour is the average, but may vary according to the number, size, and complexity of the businesses covered by the response.

Estimated Total Annual Burden Hours: 62,000.

Estimated Total Annual Cost to Public: $0.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 8, 2008.
Gwellnar Banks,
Management Analyst, Office of Chief Information Officer.

[FR Doc. E8-18699 Filed 8-12-08; 8:45 am]

BILLING CODE 3510-06-P